DEPARTMENT OF COMMERCE

Census Bureau

Current Population Survey (CPS)—Unemployment Insurance Supplement

ACTION: Proposed collection; comment request.

SUMMARY: The Department of Commerce, as part of its continuing effort to reduce paperwork and respondent burden, invites the general public and other federal agencies to take this opportunity to comment on proposed or continuing information collections, as required by the Paperwork Reduction Act of 1995, Public Law 104-13 (44 U.S.C. 3506(c)(2)(A)).

DATES: Written comments must be submitted on or before August 2, 2004.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Dennis Clark, Census Bureau, FOB 3, Room 3340, Washington, DC 20233-8400, (301) 763-3806.

SUPPLEMENTARY INFORMATION:

I. Abstract

The Census Bureau plans to request clearance for the collection of data via a Supplemental Survey of Unemployment Insurance Non-Filers to be conducted in conjunction with the January, May, July, and November 2005 CPS. Title 13, United States Code, Section 182, and Title 29, United States Code, Sections 1-9, authorize the collection of the CPS information. The Supplemental Survey of Unemployment Insurance Non-Filers is sponsored by the Department of Labor.

This supplement, which was last conducted in August 1993, will provide the Department of Labor with better information on how often unemployed individuals chose not to apply for unemployment benefits and their reasons for not doing so. Analysis from the survey data will be used by the Department of Labor to help improve the U. S. unemployment insurance system.

II. Method of Collection

The unemployment insurance information will be collected by both personal visit and telephone interviews in conjunction with the regular CPS interviewing during January, May, July, and November of 2005. All interviews are conducted using computer-assisted interviewing.

III. Data

OMB Number: Not available.

Form Number: There are no forms. We conduct all interviews on computers.

Type of Review: Regular.

Affected Public: Households.

Estimated Number of Respondents: 6,000 (total for all 4 months).

Estimated Time Per Response: 1 minute.

Estimated Total Annual Burden Hours: 100.

Estimated Total Annual Cost: The only cost to respondents is that of their time.

Respondent's Obligation: Voluntary.

Legal Authority: Title 13, U.S.C., Section 182, and Title 29, U.S.C., Sections 1-9.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for the Office of Management and Budget approval of this information collection; they also will become a matter of public record.

Dated: May 27, 2004.
Madeleine Clayton,
Management Analyst, Office of the Chief Information Officer.

[FR Doc. 04-12510 Filed 6-2-04; 8:45 am]

BILLING CODE 3510-07-P